INTERNATIONAL TRADE COMMISSION

[Investigations Nos. 731-TA-919-920 (Final)]

Certain Welded Large Diameter Line Pipe from Japan and Mexico

AGENCY: United States International Trade Commission.

ACTION: Revised schedule for the subject investigations.

SUMMARY: The Commission is revising its schedule for the subject investigations as follows: the hearing will be held at the U.S. International Trade Commission Building at 9:30 a.m. on October 9, 2001; the deadline for filing posthearing briefs is October 15, 2001; the Commission will make its final release of information on October 19, 2001; and final party comments are due on October 23, 2001.

EFFECTIVE DATE: September 26, 2001.

FOR FURTHER INFORMATION CONTACT: Tim Timberlake (202-205-3188), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. Media should contact Peg O'Laughlin (202-205-1819), Office of External Relations. General information concerning the Commission may also be obtained by accessing its internet server (http://www.usitc.gov). The public record for these investigations may be viewed on the Commission's electronic docket (EDIS-ON-LINE) at http://dockets.usitc.gov/eol/public.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

Issued: September 26, 2001.
By order of the Commission.
Donna R. Koehnke,
Secretary.

[FR Doc. 01-24625 Filed 10-1-01; 8:45 am]

BILLING CODE 7020-02-P